DEPARTMENT OF TRANSPORTATION

Federal Aviation Administration

14 CFR Part 39

[Docket No. 2001-SW-08-AD; Amendment 39-12284; AD 2001-13-04]

RIN 2120-AA64

Airworthiness Directives; Eurocopter France Model EC 155B Helicopters

AGENCY: Federal Aviation Administration, DOT.

ACTION: Final rule; request for comments.

SUMMARY: This amendment adopts a new airworthiness directive (AD) for Eurocopter France Model EC 155B helicopters. This AD requires, before each takeoff with a cabin sliding door in the open position, visually checking each sliding door to ensure that each door roller is inside its rail. If a roller is outside its rail, before further flight, each roller on each door must be replaced inside its rail. This AD also revises the Limitations section of the Rotorcraft Flight Manual (RFM) by prohibiting the opening and closing of a cabin sliding door in flight. This AD is prompted by the loss of a cabin sliding door in flight. The actions specified by this AD are intended to prevent in-flight loss of a cabin sliding door, impact with the main rotor or fenestron, and subsequent loss of control of the helicopter.

DATES: Effective July 23, 2001.

Comments for inclusion in the Rules Docket must be received on or before August 27, 2001.

ADDRESSES: Submit comments in triplicate to the Federal Aviation Administration (FAA), Office of the Regional Counsel, Southwest Region, Attention: Rules Docket No. 2001-SW-08-AD, 2601 Meacham Blvd., Room 663, Fort Worth, Texas 76137. You may also send comments electronically to the Rules Docket at the following address: 9-asw-adcomments@faa.gov.

FOR FURTHER INFORMATION CONTACT: Richard Monschke, Aviation Safety Engineer, FAA, Rotorcraft Directorate, Rotorcraft Standards Staff, Fort Worth, Texas 76193-0110, telephone (817) 222-5116, fax (817) 222-5961.

SUPPLEMENTARY INFORMATION: The Direction Générale De L'Aviation Civile (DGAC), the airworthiness authority for France, notified the FAA that an unsafe condition may exist on Eurocopter France Model EC 155B helicopters. The DGAC advises of an in-flight loss of a cabin sliding door.

Eurocopter France has issued Alert Service Telex No. 52A003, dated February 8, 2001 (AST). The AST specifies that, before takeoff with a cabin sliding door (door) open, the operator must visually check each door rail with the door in the open position to ensure that no roller is outside its rail. If a roller is outside its rail, the AST specifies correcting that condition in accordance with Aircraft Maintenance Manual Task 52-12-00-061 before resuming flight. The AST also forbids opening and closing a sliding door in flight. The DGAC classified this AST as mandatory and issued AD No. T2001-058-001(A) to ensure the continued airworthiness of these helicopters in France.

This helicopter model is manufactured in France and is type certificated for operation in the United States under the provisions of 14 CFR 21.29 and the applicable bilateral airworthiness agreement. Pursuant to this bilateral airworthiness agreement, the DGAC has kept the FAA informed of the situation described above. The FAA has examined the findings of the DGAC, reviewed all available information, and determined that AD action is necessary for products of this type design that are certificated for operation in the United States.

Since we have identified an unsafe condition that is likely to exist or develop on other Eurocopter France Model EC 155B helicopters of the same type design registered in the United States, this AD is being issued to prevent in-flight loss of a door, impact with the main rotor or fenestron, and subsequent loss of control of the helicopter. This AD requires the operator, before each flight with a sliding door open, to visually check the door rails of that door to ensure that each roller is inside its rail. If any roller is outside its rail, this AD requires that each roller be replaced inside its rail. Note 2 of the AD refers the reader to Maintenance Manual Task 52-12-00-061 that details a corrective procedure. This AD also revises the Limitations section of the RFM by prohibiting opening and closing either cabin sliding door in flight. The short compliance time involved is required because the previously described critical unsafe condition can adversely affect the controllability and structural integrity of the helicopter. Therefore, visually checking the door and ensuring that each roller is inside its rail is required before each flight with a sliding door open, and this AD must be issued immediately.

An owner/operator (pilot) may perform the visual checks required by this AD and must enter compliance with the visual inspection required by paragraph (a) of this AD in accordance with 14 CFR 43.11 and 91.417(a)(2)(v)). This AD allows a pilot to perform this check because it involves only a visual check of a sliding cabin door to detect any roller outside its rail and can be performed equally well by a pilot or a mechanic.

Since a situation exists that requires the immediate adoption of this regulation, it is found that notice and opportunity for prior public comment hereon are impracticable, and that good cause exists for making this amendment effective in less than 30 days.

The FAA estimates that 2 helicopters will be affected by this AD, that it will take approximately 0.1 work hour to accomplish the visual check, and that the average labor rate is $60 per work hour. Based on these figures, the total cost impact of the AD on U.S. operators is estimated to be $6 for each flight with a sliding door open, assuming that no roller is outside of its rail.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2001-SW-08-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding the following new airworthiness directive:

2001-13-04 Eurocopter France: Amendment 39-12284. Docket No. 2001-SW-08-AD.

Applicability: Model EC 155B helicopters, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (d) of this AD. The request should include an assessment of the effect of the modification, alteration, or repair on the unsafe condition addressed by this AD; and if the unsafe condition has not been eliminated, the request should include specific proposed actions to address it.

Compliance: Required before each flight (takeoff and landing) with an open cabin sliding door, unless accomplished previously.

To prevent in-flight loss of a cabin sliding door, impact with the main rotor or fenestron, and subsequent loss of control of the helicopter, accomplish the following:

(a) Visually check each cabin sliding door in the open position to ensure that each roller is in its rail. If any roller is outside its rail, before further flight, replace the roller inside the rail.

Note 2: Maintenance Manual Task 52-12-00-061 pertains to the subject of this AD.

(b) An owner/operator (pilot) may perform the visual check required by this AD and must record compliance with the visual check required by paragraph (a) of this AD in accordance with 14 CFR 43.11 and 91.417(a)(2)(v)). This AD allows a pilot to perform this check because it involves only a visual check of each cabin sliding door to detect any roller outside its rail and can be performed equally well by a pilot or a mechanic.

(c) This AD revises the Limitations section of the Rotorcraft Flight Manual (RFM) by either inserting statements prohibiting the opening and closing of a cabin sliding door in flight and requiring, before each flight with an open cabin sliding door, visually checking the open door to ensure each door roller is inside its rail, or by inserting a copy of this AD into the Limitations section of the RFM.

(d) An alternative method of compliance or adjustment of the compliance time that provides an acceptable level of safety may be used if approved by the Manager, Regulations Group, Rotorcraft Directorate, FAA. Operators shall submit their requests through an FAA Principal Maintenance Inspector, who may concur or comment, and then send it to the Manager, Rotorcraft Directorate.

(e) A special flight permit is prohibited.

(f) This amendment becomes effective on July 23, 2001.

Note 3: The subject of this AD is addressed in Direction Générale De L'Aviation Civile (France) AD No. T2001-058-001(A), dated February 9, 2001.

Issued Fort Worth, Texas, on June 12, 2001.
Eric Bries,
Acting Manager, Rotorcraft Directorate, Aircraft Certification Service.

[FR Doc. 01-16045 Filed 6-26-01; 8:45 am]

BILLING CODE 4910-13-U